COMMITTEE FOR PURCHASE FROM PEOPLE WHO ARE BLIND OR SEVERELY DISABLED

Procurement List; Additions and Deletions

AGENCY: Committee for Purchase From People Who are Blind or Severely Disabled.

ACTION: Additions to and deletions from Procurement List.

SUMMARY: This action adds to the Procurement List products and services to be furnished by nonprofit agencies employing persons who are blind or have other severe disabilities, and deletes from the Procurement List products and a service previously furnished by such agencies.

DATES: Effective Date: May 21, 2006.

ADDRESSES: Committee for Purchase From People Who are Blind or Severely Disabled, Jefferson Plaza 2, Suite 10800, 1421 Jefferson Davis Highway, Arlington, Virginia, 22202-3259.

FOR FURTHER INFORMATION CONTACT: Mary-Carolyn Bell, Telephone: (703) 603-7740, Fax: (703) 603-0655, or e-mail mbell@jwod.gov.

SUPPLEMENTARY INFORMATION:

Additions

On February 17, and February 24, 2006, the Committee for Purchase From People Who are Blind or Severely Disabled published notice (71 FR 8565, and 9517) of proposed additions to the Procurement List.

The following comments pertain to V-Belt.

Comments were received from the current contractor for the V-belts, in response to a request for sales data. The contractor claimed that losing the contract for these belts would have a significant impact on the corporation's revenue and on the government supply chain for the belts. The contractor also stated that losing these belts would affect its pricing for other belts. Finally, the contractor stated that it is working with a local blind organization in the Committee's program for packaging, warehousing and shipping services.

The amount of revenue the contractor may lose as a result of this addition to the Procurement List is well below the level which the Committee normally considers to constitute severe adverse impact on a contractor. The nonprofit organization which will supply the belts has been found capable of meeting government requirements, including delivery times. The government contracting activity considers the price it will pay for these belts to be reasonable. The contractor's price for other belts is outside the Committee's control. The blind organization is not working with the contractor on these belts, so their addition to the Procurement List should not affect the relationship between these two entities. Accordingly, the Committee believes that it is appropriate to add these belts to the Procurement List.

The following material pertains to all of the items being added to the Procurement List.

After consideration of the material presented to it concerning capability of qualified nonprofit agencies to provide the products and services and impact of the additions on the current or most recent contractors, the Committee has determined that the products and services listed below are suitable for procurement by the Federal government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the government.

2. The action will result in authorizing small entities to furnish the products and services to the government.

3. There are no known regulatory alternatives which would accomplish the objectives of the Javits-Wagner-O'Day Act (41 U.S.C. 46-48c) in connection with the products and services proposed for addition to the Procurement List.

End of Certification

Accordingly, the following products and services are added to the Procurement List:

Products

Product/NSN: Remanufactured Ink Cartridges (USDA, Farm Service Agency, Kansas City, Missouri Only).

7510-00-NSH-0114—Black.

NPA: Thresholds Rehabilitation Inc., Chicago, Illinois.

Contracting Activity: USDA, Farm Service Agency, Kansas City, Missouri.

Product/NSNs: V Belt.

3030-01-017-4340—0.50 × 37 inches.

3030-01-387-5679—0.38 × 30.0 inches.

3030-01-200-6004—0.688 × 43.125 inches.

3030-01-271-3754—1.125 × 68.0 inches.

3030-01-293-8544—1.125 × 60.5 inches.

3030-01-146-7057—47.75 × 0.785 inches.

3030-01-387-5760—0.38 × 43.0 inches.

3030-01-466-9476—29.480 mm.

3030-00-844-4456—.050 × 58.0 inches.

NPA: East Texas Lighthouse for the Blind, Tyler, Texas.

Contracting Activity: Defense Supply Center Philadelphia, Philadelphia, Pennsylvania.

Services

Service Type/Location: Custodial Services, Bureau of Reclamation, 6150 West Thunderbird Road, Glendale, Arizona.

NPA: Goodwill Community Services, Inc., Phoenix, Arizona.

Contracting Activity: Bureau of Reclamation, Phoenix, Arizona.

Service Type/Location: Grounds Maintenance, Gerald R. Ford Federal Building & U.S. Courthouse, 110 Michigan Street, Grand Rapids, Michigan.

NPA: Hope Network Services Corporation, Grand Rapids, Michigan.

Contracting Activity: GSA, Public Buildings Service, Region 5, Chicago, Illinois.

Service Type/Location: Grounds Maintenance & Snow Removal, Hart-Dole-Inouye Federal Center, 74 North Washington Avenue, Battle Creek, Michigan.

NPA: Navigations, Inc., Battle Creek, Michigan.

Contracting Activity: GSA, Public Buildings Service, Region 5, Chicago, Illinois.

Service Type/Location: Multi-Function Support Services, Naval & Marine Corps Reserve Center, 6400 Bloomington Road, Fort Snelling, St. Paul, Minnesota; Naval Air Reserve Center, 5905 34th Avenue, S, Minneapolis, Minnesota.

NPA: AccessAbility, Inc., Minneapolis, Minnesota.

Contracting Activity: Naval Facilities Engineering Field Activity Midwest, Great Lakes, Illinois.

Deletions

On February 24, 2006, the Committee for Purchase From People Who are Blind or Severely Disabled published notice (71 FR 9517) of proposed deletions to the Procurement List.

After consideration of the relevant matter presented, the Committee has determined that the products and service listed below are no longer suitable for procurement by the Federal government under 41 U.S.C. 46-48c and 41 CFR 51-2.4.

Regulatory Flexibility Act Certification

I certify that the following action will not have a significant impact on a substantial number of small entities. The major factors considered for this certification were:

1. The action may result in additional reporting, recordkeeping or other compliance requirements for small entities.

2. The action may result in authorizing small entities to furnish the products and service to the government.

3. There are no known regulatory alternatives which would accomplish the objectives of the Javits-Wagner-O'Day Act (41 U.S.C. 46-48c) in connection with the products and service deleted from the Procurement List.

End of Certification

Accordingly, the following products and service are deleted from the Procurement List:

Products

Product/NSN: Light, Desk.

6230-00-682-3423—Light, Desk.

6230-00-299-7771—Light, Desk.

NPA: None currently authorized.

Contracting Activity: GSA, Southwest Supply Center, Fort Worth, Texas.

Service

Service Type/Location: Duplication and Copy Machine Operation, GSA, 10 Causeway Street, 9th Floor Region 1, Boston, Massachusetts.

NPA: Morgan Memorial Goodwill Industries, Boston, Massachusetts.

Contracting Activity: GSA, Region 1, Boston, Massachusetts.

G. John Heyer,
General Counsel.

[FR Doc. E6-6015 Filed 4-20-06; 8:45 am]

BILLING CODE 6353-01-P